ENVIRONMENTAL PROTECTION AGENCY

[FRL-9140-8]

Science Advisory Board Staff Office; Request for Nominations of Experts To Augment the SAB Ecological Processes and Effects Committee (EPEC)

AGENCY: Environmental Protection Agency (EPA).

ACTION: Notice.

SUMMARY: The EPA Science Advisory Board (SAB) Staff Office is requesting public nominations of non-EPA experts to augment the SAB Ecological Processes and Effects Committee (EPEC) to review the design, scope, and progress of EPA research to model, monitor, and map ecosystem services.

DATES: Nominations should be submitted by May 13, 2010 per instructions below.

FOR FURTHER INFORMATION: Any member of the public wishing further information regarding this Notice and Request for Nominations may contact Dr. Thomas Armitage, Designated Federal Officer (DFO), SAB Staff Office, by telephone/voice mail at (202) 343-9995; by fax at (202) 233-0643 or via e-mail at armitage.thomas@epa.gov. General information concerning the EPA Science Advisory Board can be found on the EPA SAB Web site at http://www.epa.gov/sab. Any inquiry regarding EPA's Ecosystem Services Research Program should be directed to Dr. Rick Linthurst of EPA's Office of Research and Development at linthurst.rick@epa.gov or (919) 541-4909 or Ms. Iris Goodman of EPA's Office of Research and Development at Goodman.iris@epa.gov or 202-343-9854.

SUPPLEMENTARY INFORMATION:

Background

The SAB (42 U.S.C. 4365) is a chartered Federal Advisory Committee that provides independent scientific and technical peer review, advice, consultation, and recommendations to the EPA Administrator on the technical basis for EPA actions. As a Federal Advisory Committee, the SAB conducts business in accordance with the Federal Advisory Committee Act (FACA) (5 U.S.C. App. 2) and related regulations. Generally, SAB meetings are announced in the Federal Register, conducted in public view, and provide opportunities for public input during deliberations. The Ecological Processes and Effects Committee is a standing committee of the chartered SAB. Additional information about the SAB and its committees can be obtained on the SAB Web site at http://www.epa.gov/sab.

In 2008, the Science Advisory Board (SAB) (see http://yosemite.epa.gov/sab/sabproduct.nsf/3F81610BFF770E30852574D600718D4F/$File/EPA-SAB-08-011-unsigned.pdf) reviewed the EPA Office of Research and Development (ORD) draft Ecological Research Program Multi-Year Plan. The draft Plan articulated a new strategic direction for ecological research focused on understanding ecosystem services and their contribution to human health and well-being. In 2009, the SAB provided additional consultative advice and recommendations regarding EPA implementation of the Ecosystem Services Research Program (ESRP) (see http://yosemite.epa.gov/sab/sabproduct.nsf/91190EEC56A44B3F85257641006BB7D7/$File/EPA-SAB-09-019-unsigned.pdf).

ORD has requested further SAB review of the design, scope, and progress of ESRP research to model, monitor, and map ecosystem services. EPA's ESRP monitoring, mapping, and modeling research aims to provide a publicly accessible, scalable, national atlas; a design framework to inventory ecosystem services; and integrated models for selected ecosystem services that can be directly or indirectly quantified.

Request for Nominations

To augment expertise on the SAB EPEC, the SAB Staff Office is seeking nominations of recognized experts in ecology, environmental economics, social and behavioral science, geographic information systems, and spatial analysis. In particular, we seek nominees with knowledge of: (1) Indicators of ecosystem services; (2) ecosystem services monitoring design; (3) landscape ecology principles, especially as related to ecosystem service indicators and atlas design; and (4) methods to facilitate the integration and interoperability of models to estimate baseline ecosystem services and their response to stressors, including changes in land use, pollutants, and climate change.

Process and Deadline for Submitting Nominations

Any interested person or organization may nominate individuals qualified in the area of science as described above to be considered for appointment to augment this SAB Committee. Candidates may also nominate themselves. Nominations should be submitted in electronic format (which is preferred over hard copy) following the instructions for “Nominating Experts to Advisory Panels and Ad Hoc Committees Being Formed” provided on the SAB Web site. The form can be accessed through the “Nomination of Experts” link on the blue navigational bar on the SAB Web site at http://www.epa.gov/sab. To receive full consideration, nominations should include all of the information requested, and should be submitted in time to arrive no later than May 13, 2010. EPA values and welcomes diversity. In an effort to obtain nominations of diverse candidates, EPA encourages nominations of women and men of all racial and ethnic groups.

EPA's SAB Staff Office requests contact information about: the person making the nomination; contact information about the nominee; the disciplinary and specific areas of expertise of the nominee; the nominee's curriculum vitae; sources of recent grant and/or contract support; and a biographical sketch of the nominee indicating current position, educational background, research activities, and recent service on other national advisory committees or national professional organizations.

Persons having questions about the nomination procedures, or who are unable to submit nominations through the SAB Web site, should contact Dr. Thomas Armitage, DFO, at the contact information provided above in this notice. Non-electronic submissions must follow the same format and contain the same information as the electronic.

The SAB Staff Office will acknowledge receipt of the nomination and inform nominees of the Committee for which they have been nominated. From the nominees identified by respondents to this Federal Register notice (termed the “Widecast”) and other sources, the SAB Staff Office will develop a smaller subset (known as the “list of candidates”) for more detailed consideration. The list of candidates will be posted on the SAB Web site at http://www.epa.gov/sab and will include, for each candidate, the nominee's name and biosketch. Public comments on the list of candidates will be accepted for 21 calendar days. During this comment period, the public will be requested to provide information, analysis, or other documentation on nominees that the SAB Staff Office should consider in evaluating candidates for the Committee.

For the SAB, a balanced Committee is characterized by inclusion of candidates who possess the necessary domains of knowledge, the relevant scientific perspectives (which, among other factors, can be influenced by work history and affiliation) and the collective breadth of experience to adequately address the charge. Public responses to the list of candidates will be considered in the selection of the Committee, along with information provided by candidates and information gathered by SAB Staff independently concerning the background of each candidate (e.g., financial disclosure information and computer searches to evaluate a nominee's prior involvement with the topic under review). Specific criteria to be used in evaluation of an individual Committee member include: (a) Scientific and/or technical expertise, knowledge, and experience (primary factors); (b) absence of financial conflicts of interest; (c) scientific credibility and impartiality; (d) availability and willingness to serve; (e) ability to work constructively and effectively in committees; and (f) for the Committee as a whole, diversity of scientific expertise and viewpoints.

Prospective candidates will be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. Ethics information, including EPA Form 3110-48, is available on the SAB Web site at http://yosemite.epa.gov/sab/sabproduct.nsf/Web/ethics?OpenDocument.

Dated: April 15, 2010.
Anthony F. Maciorowski,
Deputy Director, EPA Science Advisory Board Staff Office.

[FR Doc. 2010-9359 Filed 4-21-10; 8:45 am]

BILLING CODE 6560-50-P